DEPARTMENT OF HEALTH AND HUMAN SERVICES

National Institutes of Health

Submission for OMB Review; 30-Day Comment Request a Generic Submission for Formative Research, Pretesting and Customer Satisfaction of NCI's Communication and Education Resources (NCI)

SUMMARY: Under the provisions of section 3507(a)(1)(D) of the Paperwork Reduction Act of 1995, the National Cancer Institute, the National Institutes of Health, has submitted to the Office of Management and Budget (OMB) a request for review and approval of the information collection listed below. This proposed information collection was previously published in the Federal Register on March 9, 2016 P. 12514 and allowed 60 days for public comment. No public comments were received. The purpose of this notice is to allow an additional 30 days for public comment. The National Cancer Institute, NCI, National Institutes of Health, may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, or request more information on the proposed project, contact: Nina Goodman, Public Health Advisor, Office of Communication and Public Liaison, 9609 Medical Center Drive, RM 2E446 Rockville, MD 20850 or call non-toll-free number (240) 276-6600 or Email your request, including your address to: nciocpl@mail.nih.gov. Formal requests for additional plans and instruments must be requested in writing.

Proposed Collection: A Generic Submission for Formative Research, Pretesting and Customer Satisfaction of NCI's Communication and Education Resources (NCI), 0925-0046, Expiration Date 05/31/2016, REVISION, National Cancer Institute (NCI), National Institutes of Health (NIH).

Need and Use of Information Collection: As part of NCI's mandate from Congress to disseminate information on cancer research, detection, prevention, and treatment, the Institute develops a wide variety of messages and materials. Testing these messages and materials assesses their potential effectiveness in reaching and communicating with their intended audience while they are still in the developmental stage and can be revised. The formative research and pretesting process thus contributes to maximizing NCI's limited dollar resources for information dissemination and education. NCI also must ensure the relevance, utility, and appropriateness of the many educational programs and products that the Institute produces. Customer satisfaction studies help NCI identify modifications necessary to meet the needs of NCI's various target audiences. Since the previous submission, there have been 10 approved sub-studies with an approved request of just under 1400 burden hours over 2.5 years. Approval is requested for the conduct of multiple studies annually using such methods as interviews, focus groups, and various types of surveys. The content, timing, and number of respondents to be included in each sub-study will vary, depending on the nature of the message/material/program being assessed, the methodology selected, and the target audiences.

OMB approval is requested for 3 years. There are no costs to respondents other than their time. The total estimated annualized burden hours are 33,000.

Estimated Annualized Burden Hours
Category of respondents | Form name | Number of respondents | Frequency of response per respondent | Time per response (in hours) | Burden hours
Healthcare Providers and Professionals including those working in health field (e.g., cancer researchers) | Focus Groups, Individual In-Depth Interviews, Brief Interviews, Surveys, Website Usability Testing | 16,500 | 1 | 1 | 16,500
General Public, Cancer Patients, Friends and Families of Patients | Focus Groups, Individual In-Depth Interviews, Brief Interviews, Surveys, Website Usability Testing | 16,500 | 1 | 1 | 16,500
Totals |  | 33,000 | 33,000 |  | 33,000

Dated: May 20, 2016.
Karla Bailey,
Project Clearance Liaison, National Cancer Institute, NIH.

[FR Doc. 2016-12505 Filed 5-26-16; 8:45 am]

BILLING CODE 4140-01-P